DEPARTMENT OF TRANSPORTATION

Federal Aviation Administration

14 CFR Part 71

[Docket FAA No. FAA-2004-19684; Airspace Docket No. 04-ANM-24]

Revision of Class E Airspace; Herlong, CA

AGENCY: Federal Aviation Administration (FAA), DOT.

ACTION: Final rule; correction.

SUMMARY: This action corrects a final rule published in the Federal RegisterApril 24, 2006 (71 FR 20876), Airspace Docket No. 04-ANM-24, FAA Docket No. FAA-2004-19684. In this rule, the title in the legal description was incorrect and should have been listed as AWP CA Herlong, CA instead of ANM CA E5 Herlong, CA.

DATES: Effective Date: 0901 UTC, August 3, 2006.

FOR FURTHER INFORMATION CONTACT: Ed Haeseker, Federal Aviation Administration, Air Traffic Organization, Western En Route and Oceanic Area Office, 1601 Lind Avenue SW., Renton, Washington 98055-4056; telephone: (425) 227-2527.

SUPPLEMENTARY INFORMATION:

History

On April 24, 2006, a final rule for Airspace Docket No. 04-ANM-24, FAA Docket No. FAA-2004-19684, was published in the Federal Register (71 FR 20876). This rule revised Class E airspace at Herlong, CA. The legal description title was incorrectly stated as ANM CA E5 Herlong, CA. The correct legal description title should be AWP CA Herlong, CA. This action corrects this error.

Correction to Final Rule

Accordingly, pursuant to the authority delegated to me, the title in the legal description as published in the Federal Register on April 24, 2006 (71 FR 20876), Airspace Docket No. 04-ANM-24, FAA Docket No. FAA-2004-19684, and incorporated by reference in 14 CFR 71.1, is corrected as follows:

PART 71—[AMENDED]

§ 71.1 [Amended]

On page 20876, correct the legal description title for Herlong, CA, to read as follows:

Paragraph 6005—Class E Airspace.

* * * * *

AWP CA Herlong, CA [Revised]

* * * * *

Issued in Seattle, Washington, on May 23, 2006.
R. D. Engelke,
Acting Area Director, Western En Route and Oceanic Operations.

[FR Doc. 06-5034 Filed 6-1-06; 8:45 am]

BILLING CODE 4910-13-P